DEPARTMENT OF LABOR

Employment and Training Administration

[TA-W-71,968]

Henniges Automotives, Farmington Hills, MI; Notice of Termination of Investigation

Pursuant to Section 223 of the Trade Act of 1974, as amended, an investigation was initiated in response to a petition filed on August 10, 2009 by Company official on behalf of workers of Henniges Automotive, Farmington Hills, Michigan.

The petitioner has requested that the petition be withdrawn. Consequently, the investigation has been terminated.

Signed at Washington, DC this 3rd day of September 2009.
Elliott S. Kushner,
Certifying Officer, Division of Trade Adjustment Assistance.

[FR Doc. E9-29181 Filed 12-7-09; 8:45 am]

BILLING CODE 4510-FN-P